DEPARTMENT OF STATE

[Public Notice: 12925]

TITLE: Notice of Public Meeting To Prepare for International Maritime Organization HTW 12 Session

The Department of State will conduct a public meeting at 10:00 a.m. on Wednesday, February 11, 2026, by teleconference. The primary purpose of the meeting is to prepare for the twelfth session of the International Maritime Organization's (IMO) Sub-Committee on Human Element, Training and Watchkeeping (HTW) to be held in London, United Kingdom, from Monday, February 23, 2026, to Friday, February 27, 2026.

The agenda items to be considered include:

—Adoption of the agenda

—Decisions of other IMO bodies

—Validated model training courses

—Role of the human element

—Reports on unlawful practices associated with certificates of competency

—Comprehensive review of the 1978 STCW Convention and Code

—Development of a safety regulatory framework to support the reduction of GHG emissions from ships using new technologies and alternative fuels

—Scoping exercise and enhancement of the effectiveness of provisions on fatigue and seafarers' hours of work and rest

—Biennial status report and provisional agenda for HTW 13

—Election of Chair and Vice-Chair for 2027

—Any other business

—Report to the Maritime Safety Committee

Please note: The IMO may, on short notice, adjust the HTW 12 agenda to accommodate any constraints associated with the meeting. Although no changes to the agenda are anticipated, if any are necessary, they will be provided to those who RSVP.

Those who plan to participate may contact the meeting coordinator, Mrs. Megan Johns Henry at megan.c.johns@uscg.mil, by phone at (571) 610-3303, or in writing at 2703 Martin Luther King Jr. Ave. SE, Stop 7509, Washington, DC 20593-7509, not later than February 5, 2026. Members of the public needing reasonable accommodation should advise Mrs. Megan Johns Henry no later than February 5, 2026. Requests made after that date will be considered but might not be possible to fulfill.

Additional information regarding this and other IMO public meetings may be found at: https://www.dco.uscg.mil/IMO.

(Authority: 22 U.S.C. 2656 and 5 U.S.C. 552.)

Emily C. Miletello,
Coast Guard Liaison Officer, Office of Ocean and Polar Affairs, U.S. Department of State.

[FR Doc. 2026-01291 Filed 1-22-26; 8:45 am]

BILLING CODE 4710-09-P